DEPARTMENT OF HOMELAND SECURITY

Transportation Security Administration

49 CFR Part 1572

[Docket Nos. TSA-2006-24191; TSA Amendment No. 1572-8]

RIN 1652-AA41

Title: Transportation Worker Identification Credential (TWIC) Implementation in the Maritime Sector; Hazardous Materials Endorsement for a Commercial Driver's License; Correction

AGENCY: Transportation Security Administration, DHS.

ACTION: Correcting amendments.

SUMMARY: This amendment clarifies that E-2 Visa (Treaty Investor) holders are eligible for a Transportation Worker Identification Credential (TWIC), and corrects an error in the final rule published on January 25, 2007 72 FR 4392. The amendment adds the E-2 Visa as one of the permissible visa categories for TWIC applicants. Holders of E-2 Visas were explicitly listed as eligible to hold a TWIC in the preamble of the rule, and therefore, this revision carries out the intent of the rule.

DATES: Effective on March 12, 2008.

FOR FURTHER INFORMATION CONTACT: Christine Beyer, Office of Chief Counsel, TSA-2, Transportation Security Administration, 601 South 12th Street, Arlington, VA 22202-4220; telephone (571) 227-2657; facsimile (571) 227-1380; e-mail Christine.Beyer@dhs.gov.

SUPPLEMENTARY INFORMATION:

Background

On January 25, 2007, the Department of Homeland Security (DHS), through TSA and the United States Coast Guard (Coast Guard), issued a final rule to further secure the Nation's ports and modes of transportation. The rule implemented the Maritime Transportation Security Act of 2002 and the Security and Accountability for Every Port Act of 2006. Those statutes establish requirements regarding the promulgation of regulations that require credentialed merchant mariners and workers with unescorted access to secure areas of vessels and facilities to undergo a security threat assessment and receive a biometric credential, known as a Transportation Worker Identification Credential (TWIC). Subsequently, TSA corrected and amended the final rule on February 7, 2007 (72 FR 5632); March 26, 2007 (72 FR 14049); March 30, 2007 (72 FR 15195); and September 28, 2007 (72 FR 55043).

In the January 2007 final rule, TSA applied its security threat assessment standards that already applied to commercial drivers authorized to transport hazardous materials in commerce to merchant mariners and workers who require unescorted access to secure areas on vessels and at maritime facilities. Also, TSA amended the qualification standards by changing the list of crimes that disqualify an individual from holding a TWIC or a hazardous materials endorsement (HME), and expanded the immigration standards to permit additional lawful nonimmigrants to apply for and hold a TWIC or HME.

In selecting the immigration status and visa categories that are eligible for a TWIC, TSA focused on the professionals and specialized workers who are employed prevalently in the maritime industry to work on vessels or other equipment unique to the maritime industry. In the final rule, TSA stated that an alien holding one of the following visa categories would be eligible to apply for a TWIC: (1) H-1B Special Occupations; (2) H-1B1 Free Trade Agreement; (3) E-1 Treaty Trader; (4) E-2 Treaty Investor; (5) E-3 Australian in Specialty Occupation; (6) L-1 Intra Company Executive Transfer; (7) O-1 Extraordinary Ability; or (8) TN North American Free Trade Agreement. See 72 FR 3551. However, we inadvertently omitted the E-2 Treaty Investor visa category from the immigration standards in the rule text at 49 CFR 1572.105. With this correcting amendment, we revise § 1572.105 to add the E-2 Treaty Investor as an eligible category for TWIC. This addition requires renumbering paragraph (a)(7) and making conforming editorial changes. Former subparagraph (a)(7)(x) is revised so that it correctly applies to all of paragraph (a)(7), not just (a)(7)(i)-(viii).

List of Subjects in 49 CFR Part 1572

Appeals, Commercial drivers license, Criminal history background checks, Explosives, Facilities, Hazardous materials, Incorporation by reference, Maritime security, Motor carriers, Motor vehicle carriers, Ports, Seamen, Security measures, Security threat assessment, Vessels, Waivers.

Accordingly, 49 CFR part 1572 is corrected by making the following correcting amendment:

PART 1572—CREDENTIALING AND SECURITY THREAT ASSESSMENTS

1. The authority citation for part 1572 continues to read as follows:

Authority: 46 U.S.C. 70105; 49 U.S.C. 114, 5103a, 40113, and 46105; 18 U.S.C. 842, 845; 6 U.S.C. 469.49 U.S.C.

2. In § 1572.105, amend paragraph (a) as follows:

a. Revise paragraph (a)(7)(ix).

b. Redesignate paragraph (a)(7)(x) as paragraph (xi) and revise.

c. Add new paragraph (a)(7)(x).

§ 1572.105 Immigration status.

(a) * * *

(7) * * *

(ix) TN North American Free Trade Agreement;

(x) E-2 Treaty Investor; or

(xi) Another authorization that confers legal status, when TSA determines that the legal status is comparable to the legal status set out in paragraph (a)(7) of this section.

* * * * *

Issued in Arlington, Virginia, on March 6, 2008.
Mardi Ruth Thompson,
Deputy Chief Counsel for Regulations, Transportation Security Administration.

[FR Doc. E8-4901 Filed 3-11-08; 8:45 am]

BILLING CODE 9110-05-P